SMALL BUSINESS ADMINISTRATION

[License No. 01/71-0368]

New England Partners Capital, L.P.; Notice Seeking Exemption Under Section 312 of the Small Business Investment Act, Conflicts of Interest

Notice is hereby given that New England Partners Capital, L.P., One Boston Place, Suite 2100, Boston, MA 02108, a Federal Licensee under the Small Business Investment Act of 1958, as amended (“the Act”), in connection with the sale of a portfolio concern to an Associate, has sought an exemption under Section 312 of the Act and Section 107.730, Financings which Constitute Conflicts of Interest of the Small Business Administration (“SBA”) Rules and Regulations (13 CFR 107.730). New England Partners Capital, L.P., proposes to sell its interest in Elmet Technologies, Inc., 1560 Lisbon Street, Lewiston, ME 04240, to Harbor Acquisition Corporation, One Boston Place, Suite 3630, Boston, MA 02108, a publicly traded Special Purpose Acquisition Corporation listed on the American Stock Exchange under the ticker symbol HAC.

The transaction is brought within the purview of § 107.730(a) of the Regulations because Harbor Acquisition Corporation is an Associate of New England Partners Capital, L.P., as defined in § 107.50 of the Regulations.

Notice is hereby given that any interested person may submit written comments on the transaction to the Associate Administrator for Investment, U.S. Small Business Administration, 409 Third Street, SW., Washington, DC 20416.

Dated: May 24, 2007.
Jaime Guzmán-Fournier,
Associate Administrator for Investment.

[FR Doc. E7-11428 Filed 6-13-07; 8:45 am]

BILLING CODE 8025-01-P